DEPARTMENT OF HEALTH AND HUMAN SERVICES

Centers for Disease Control and Prevention

National Center for Health Statistics (NCHS), Classifications and Public Health Data Standards Staff, Announces the Following Meeting

Name: ICD-9-CM Coordination and Maintenance Committee Meeting.

Time and Date: 9 a.m.—4 p.m., April 3, 2003.

Place: Centers for Medicare and Medicaid Services (CMS) Auditorium, 7500 Security Boulevard, Baltimore, Maryland.

Status: Open to the public.

Purpose: The ICD-9-CM Coordination and Maintenance (C&M) Committee will hold its first meeting of the 2003 calendar year cycle on Thursday, April 3, 2003. The C&M meeting is a public forum for the presentation of proposed modifications to the International Classification of Diseases, Ninth-Revision, and Clinical Modification.

Matters to be Discussed: Agenda items include: Hepatitis C, acute and unspecified; worn out joint prosthesis; deep vein thrombosis; aftercare following organ transplant; aftercare following abnormal pap smear; encounter for pregnancy test-negative result; allergic dermatitis due to animal dander; endometrial hyperplasia with and without atypia; mechanical complication of esophagostomy; and ICD-10 Procedure Classification System (PCS); Updates on: Bipolar Radiofrequency Ablation; and Blunt Micro-Dissection with Chronic Total Occlusion (CTO) Catheter Laparoscopic/Thorascopic approaches.

Contact Person for Additional Information: Amy Blum, Medical Classification Specialist, Classifications and Public Health Data Standards Staff, NCHS, 3311 Toledo Road, Room 2402, Hyattsville, Maryland 20782, telephone 301-458-4106 (diagnosis), Amy Gruber, Health Insurance Specialist, Division of Acute Care, CMS, 7500 Security Blvd., Room C4-07-07, Baltimore, Maryland 21244, telephone 410-786-1542 (procedures).

Notice: In the interest of security, (CMS) has instituted stringent procedures for entrance into the building by non-government employees. Persons without a government I.D. will need to show a photo I.D. and sign-in at the security desk upon entering the building.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: March 14, 2003.
Alvin Hall,
Director, Management Analysis and Services Office, Centers for Disease Control and Prevention.

[FR Doc. 03-6681 Filed 3-19-03; 8:45 am]

BILLING CODE 4360-18-P